DEPARTMENT OF HOMELAND SECURITY

Federal Emergency Management Agency

[Docket ID: FEMA-2010-0029]

Agency Information Collection Activities: Submission for OMB Review; Comment Request, OMB No. 1660-0032; U.S. Fire Administration's National Fire Academy Evaluation Collection

AGENCY: Federal Emergency Management Agency, DHS.

ACTION: Notice; 30-day notice and request for comments; revision of a currently approved information collection; OMB No. 1660-0032; FEMA Form 064-0-4, NFA Distance Learning Course Evaluation Form; FEMA Form 064-0-5, NFA End of Course Evaluation Form; FEMA Form 064-0-10, USFA Conference/Symposium Form.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before September 8, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: U.S. Fire Administration's National Fire Academy Evaluation Collection.

Type of Information Collection: Revision of a currently approved information collection.

OMB Number: 1660-0032.

Form Titles and Numbers: FEMA Form 064-0-4, NFA Distance Learning Course Evaluation Form; FEMA Form 064-0-5, NFA End of Course Evaluation Form; FEMA Form 064-0-10, USFA Conference/Symposium Form.

Abstract: The NFA End of Course Evaluation Form is used to evaluate all traditional classroom based course deliveries and conference/symposia supporting programmatic initiatives. Data provided by students is used to determine the need for course improvements and the degree of student satisfaction with the training experience. Participant stakeholder data provides necessary information in consideration of program revision and development initiatives and evaluates if the information met their needs.

Affected Public: State, local or tribal government.

Estimated Number of Respondents: 54,600.

Frequency of Response: On occasion.

Estimated Average Hour Burden per Respondent: .14 burden hours.

Estimated Total Annual Burden Hours: 7,590 burden hours.

Estimated Cost: There are no record keeping, capital, start-up or maintenance costs associated with this information collection.

Lawann Johnson,
Acting Director, Records Management Division, Mission Support Bureau, Federal Emergency Management Agency, Department of Homeland Security.

[FR Doc. 2010-19517 Filed 8-6-10; 8:45 am]

BILLING CODE 9111-45-P